DEPARTMENT OF COMMERCE

International Trade Administration

Export Trade Certificate of Review

ACTION: Notice of Application to Amend Certificate.

SUMMARY: The Office of Export Trading Company Affairs (“OETCA”), International Trade Administration, Department of Commerce, has received an application to amend an Export Trade Certificate of Review (“Certificate”). This notice summarizes the proposed amendment and requests comments relevant to whether the amended Certificate should be issued.

FOR FURTHER INFORMATION CONTACT: Vanessa M. Bachman, Acting Director, Office of Export Trading Company Affairs, International Trade Administration by phone at (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. A Certificate of Review protects the holder and the members identified in the Certificate from state and federal government antitrust actions and from private, treble damage antitrust actions for the export conduct specified in the Certificate and carried out in compliance with its terms and conditions. Section 302(b)(1) of the Act and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five copies, plus two copies of the nonconfidential version, should be submitted no later than 20 days after the date of this notice in writing to: Office of Export Trading Company Affairs, International Trade Administration, Department of Commerce, Room 1104H, Washington, DC 20230, or transmitted by E-mail to oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 92-6A001.”

The Aerospace Industries Association of America, Inc. (“AIA”) original Certificate was issued on April 10, 1992 (57 FR 13707, April 17, 1992) and last amended on November 12, 1998 (63 FR 64061, November 18, 1998). A summary of the application for an amendment follows.

Summary of the Application

Applicant: Aerospace Industries Association of America, Inc. (“AIA”), 1250 Eye Street, N.W., Washington, DC 20005.

Contact: Matthew F. Hall, Telephone: (202) 862-9700.

Application No.: 92-6A001.

Date Deemed Submitted: September 11, 2001.

Proposed Amendment: AIA seeks to amend its Certificate to:

1. Add the following companies as new “Members” of the Certificate within the meaning of § 325.2(1) of the regulations (15 CFR 325.2(1)): Groen Brothers Aviation, Inc., Salt Lake City, UT; i2 Technologies, Washington, D.C.; Martin-Baker America, Incorporated, Arlington, VA (Controlling Entity: Martin-Baker Aircraft Company Ltd., Denham, Buckinghamshire, UK); MatrixOne, Inc., Chelmsford, MA; MD Helicopters, Inc., Mesa, AZ; The NORDAM Group, Tulsa, OK; Omega Air, Inc., Alexandria, VA; Space Access, LLC, Palmdale, CA; Spectrum Astro, Inc., Gilbert, AZ; Stellex Aerostructures, Inc., Woodland Hills, CA (Controlling Entity: Stellex Technologies, Inc., Woodland Hills, CA); Swales Aerospace, LLC, Beltsville, MD; Vought Aircraft Industries, Inc., Dallas, TX; W.L. Gore & Associates, Inc., Newark, DE; BAE Systems North America, Inc., Rockville, MD; GenCorp, Sacramento, CA; Smiths Aerospace Actuation Systems, Los Angeles, CA, Duarte, CA; Triumph Group, Inc.; Wayne, PA; Alcoa Industrial Components; Salt Lake City, UT (Controlling Entity: Alcoa, Pittsburgh, PA); Analytical Graphics, Inc., Malvern, PA; Atlantic Research Corporation, Gainesville, VA (Controlling Entity: Sequa Corporation, New York, NY); Aviall, Inc., Dallas TX; Ball Aerospace & Technologies Corporation, Boulder, CO; Cubic Corporation, San Diego, CA; Curtiss-Wright Corporation, Lyndhurst, NJ; Dassault Falcon Jet Corporation, South Hackensack, NJ (Controlling Entity: Dassault Aviation, France); Davis Tool, Inc., Hillsboro, OR; DRS Technologies, Inc., Parsippany, NJ; Embraer Aircraft Corporation, Brazil; Exostar, LLC, Herndon, VA; Fairchild Dormier Corporation, Wessling, Germany; Fairchild Fasteners, Dulles, VA (Controlling Entity: The Fairchild Corporation, Dulles, VA); General Atomics Aeronautical Systems, Inc., San Diego, CA (Controlling Entity: General Atomics, San Diego, CA ); Genuity Solutions, Inc., Woburn, MA; GKN Aerospace, Inc., Reston, VA (Controlling Entity: GKN Westland Aerospace division of GKN, PLC, Worcestershire, UK); ITT Industries, Inc., McLean, VA.

2. Delete the following companies as “Members” of the Certificate within the meaning of § 325.2(1) of the Regulations (15 CFR 325.2(1)): Aerojet-General Corporation, Sacremento, CA; Allied Signal Inc., Morristown, NJ; Hughes Electronic Corporation, El Segundo, CA; CMS, Inc., Tampa, FL; Coltech Industries, Inc., New York, NY; Digital Equipment Corporation, Maynard, MA; Cordant Technologies, Inc., Ogden, UT; Dowty Decoto, Inc., Duarte, CA; Dynamic Engineering Incorporated, Newport News, VA; Gulfstream Aerospace Corporation, Savannah, GA; Interturbine Corporation, Peabody, MA; ITT Defense and Electronics Inc., McLean, VA; Litton Industries, Inc., Woodland Hills, CA; Lucas Industries, Inc., Reston, VA; Marconi North America Inc., Wayne, NJ; Pacific Scientific Company, Duarte, CA; Sundstrand Corporation, Rockford, IL; Triumph Controls, Inc., North Wales, PA; Veridian Corporation, Alexandria, VA.

3. Change the listings of the current Members as follows: “BF Goodrich; Akron, OH” to “Goodrich Corporation, Charlotte, NC;” “HEICO Corporation, Hollywood, FL” to “HEICO Corporation; Miami, FL;” “B.H. Aircraft Company, Incorporated, Farmingdale, NY” to “B.H. Aircraft Company, Incorporated, Rokonkoma, NY.”

Dated: September 19, 2001.
Vanessa M. Bachman,
Acting Director, Office of Export Trading Company Affairs.

[FR Doc. 01-23967 Filed 9-24-01; 8:45 am]

BILLING CODE 3510-DR-P